DEPARTMENT OF ENERGY

Isotope Research & Development and Production Advisory Committee

AGENCY: Department of Energy, Office of Science.

ACTION: Notice of establishment.

SUMMARY: The CHIPS and Science Act of 2022 requires the Secretary of Energy to establish an advisory committee in alignment with the Department of Energy (DOE) Isotope Program. Pursuant to the Federal Advisory Committee Act, and in accordance with title 41 of the Code of Federal Regulations, and following consultation with the Committee Management Secretariat, General Services Administration, notice is hereby given that the Isotope Research & Development and Production Advisory Committee will be established for a two-year period. The Committee will provide advice, information, and recommendations to the Director, Office of Science, DOE, on a continuing basis on the DOE Isotope Program.

SUPPLEMENTARY INFORMATION: Committee members will be carefully considered to be balanced in terms of views represented and functions to be performed, in accord with FACA, and to obtain diversity, equity, and inclusion with a balance of disciplines, experiences, points of view, and geography. Members shall be experts in their respective fields from entities, including, but not limited to, research facilities, industry, and academic institutions. Membership and representation of all interests will be determined in accordance with the requirements of the Federal Advisory Committee Act, and implementing regulation.

The Committee will operate in accordance with the provisions of the Federal Advisory Committee Act, and the rules and regulations in implementation of that Act.

FOR FURTHER INFORMATION CONTACT: Jehanne Gillo at (301) 903-3400, or email at jehanne.gillo@science.doe.gov.

Signing Authority

This document of the Department of Energy was signed on December 20, 2023, by Sarah E. Butler, Committee Management Officer, pursuant to delegated authority from the Secretary of Energy. The document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 20, 2023.
Treena V. Garrett,
Federal Register Liaison Officer, U.S. Department of Energy.

[FR Doc. 2023-28432 Filed 12-26-23; 8:45 am]

BILLING CODE 6450-01-P